FEDERAL EMERGENCY MANAGEMENT AGENCY

Agency Information Collection Activities: Submission for OMB Review; Comment Request

ACTION: Notice and request for comments.

SUMMARY: The Federal Emergency Management Agency is submitting a request for review and approval of a new collection of information under the emergency processing procedures in the Office of Management and Budget (OMB) regulation 5 CFR 1320.13. FEMA is requesting the collection of information be approved by January 24, 2000 for use through July 31, 2000.

SUPPLEMENTARY INFORMATION: The Robert T. Stafford Disaster Relief and Emergency Act Public Law 93-288, as amended authorizes training programs for emergency preparedness. The information obtained from the Emergency Management Institute (EMI) form will be used for independent study course enrollment and to provide course materials to applicants. Applicants can select as many courses as they want, but they will be actively enrolled in only one course at a time. When applicants complete each course with a passing score, new course material from the course menu selection will be sent to applicants.

FEMA plans to follow this emergency request with a request for a 3-year approval. The request will be processed under OMB's normal clearance procedures in accordance with the provisions of OMB regulation 5 CFR 1320.10. To help us with the timely processing of the emergency and normal clearance submissions to OMB, FEMA invites the general public to comment on the proposed collection of information. This notice and request for comments is in accordance with the provisions of the Paperwork Reduction Act of 1995 (44 U.S.C. 3506(c)(2)(A)).

Collection of Information

Title: EMI Independent Study Course Enrollment Application.

Type of Information Collection: New collection.

OMB Number: New.

Abstract: The purpose of this form is to collect information from individuals on what Independent Study courses they wish to enroll in. This form lists the courses available through FEMA's Independent Study Program and collects information from individuals so that these courses can be mailed to them.

FEMA Form: 95-23.

Affected Public: Individuals or households.

Our burden per respondent is estimated: 1 minute.

Estimated Total Annual Burden Hours: 1,167.

Comments: Written comments are solicited to (a) evaluate whether the proposed data collection is necessary for the proper performance of the agency, including whether the information shall have practical utility; (b) evaluate the accuracy of the agency's estimate of the burden of the proposed collection of information; (c) enhance the quality, utility, and clarity of the information to be collected; and (d) minimize the burden of the collection of information on those who are to respond, including through the use of appropriate automated, electronic, mechanical, or other technological collection techniques or other forms of information technology, e.g. permitting electronic submission of responses.

ADDRESSES: Interested persons should submit written comments to the Office of Management and Budget, Office of Information and Regulatory Affairs, ATTN: David Rostker, FEMA Desk Officer, Room 10202, Washington, DC 20503.

FOR FURTHER INFORMATION CONTACT: Requests for additional information or copies of the information collection should be made to Muriel B. Anderson, FEMA Information Collections Officer, Federal Emergency Management Agency, 500 C Street, SW., Room 316, Washington, DC 20472. Telephone number (202) 646-2625. FAX number (202) 646-3524, e:mail address: muriel.anderson&fema.gov.

Thomas Behm,
Acting Director, Program Services Division, Operations Support Directorate.

[FR Doc. 00-2107 Filed 1-31-00; 8:45 am]

BILLING CODE 6718-01-P